DEPARTMENT OF ENERGY

DOE Response to Defense Nuclear Facilities Safety Board's Request for Clarification on Recommendation 2011-1, Safety Culture at the Waste Treatment and Immobilization Plant

AGENCY: Department of Energy.

ACTION: Notice.

SUMMARY: On August 12, 2011, the Defense Nuclear Facilities Safety Board (DNFSB) requested clarification on DOE's response to Recommendation 2011-1, Safety Culture at the Waste Treatment and Immobilization Plant. In accordance with section 315(b) of the Atomic Energy Act of 1954, as amended, 42 U.S.C. 2286d(b), the following represents the Secretary of Energy's clarification response to the DNFSB's request.

ADDRESSES: Send comments, data, views, or arguments concerning the Secretary's response to: Defense Nuclear Facilities Safety Board, 625 Indiana Avenue, NW., Suite 700, Washington, DC 20004 within thirty (30) days from the date of this publication.

FOR FURTHER INFORMATION CONTACT: Mr. John Vorderbrueggen, Nuclear Engineer, Departmental Representative to the Defense Nuclear Facilities Safety Board, Office of Health, Safety and Security, U.S. Department of Energy, 1000 Independence Avenue, SW., Washington, DC 20585.

Issued in Washington, DC, on September 19, 2011.
Mari-Josette Campagnone,
Departmental Representative to the Defense Nuclear Facilities Safety Board, Office of Health, Safety and Security.

September 19, 2011

The Honorable Peter S. Winokur

Chairman

Defense Nuclear Facilities Safety Board

625 Indiana Avenue, NW, Suite 700

Washington, DC 20004-2901

Dear Mr. Chairman:

This letter responds to your August 12, 2011 letter, which requested clarification on four areas identified in our original June 30, 2011, response to your Recommendation 2011-1, Safety Culture at the Waste Treatment and Immobilization Plant (WTP). As you know, because this issue is of such great importance to the Department of Energy (DOE), I have designated Deputy Secretary Poneman as the Responsible Manager for this Recommendation, and he has already begun our efforts to address the issues our staffs have discussed. The Department appreciates the opportunity to provide further clarification and believes that keeping avenues of communication open will help improve our safety culture. In our previous correspondence, the Department conveyed its acceptance of the Recommendation 2011-1 and now offers the following clarification in the areas requested:

1. DOE's present assessment of the safety culture at WTP in light of the additional sources of supporting information now available to DOE.

The Department has reviewed the incoming public comments and additional WTP safety culture-related information. On one hand, we are pleased that individuals have felt encouraged to step forward and express their concerns, to the extent that indicates that our broad message welcoming such input is being heard. On the other hand, the content of many of these messages shows that we need to continue to improve WTP's safety culture. The Department will also continue to evaluate the efficacy of applicable DOE and contractor policies and procedures, including the procedures for resolving differing professional opinions and other employee concerns.

2. DOE's current understanding of the conclusions of the HSS report.

The Health, Safety and Security (HSS) report, like all reports based on interviews, captured a snapshot in time. The report reflected the views of the interviewees as they perceived the existing situation, as interpreted by the report's authors. As your letter implies, given our steadfast commitment to safety we must continually update data and refresh conclusions based on what we learn. We have done that by reviewing the incoming comments we have received during the Deputy Secretary's July visit to Hanford and subsequently through other channels; as noted above, these have made clear that we have more work to do. That is why we have asked HSS to conduct a follow-on safety culture review at WTP as part of its broader extent-of-condition review across the DOE complex. Those reviews are scheduled to begin later this month, and we will apply what we learn in those reviews to continue our efforts to improve the safety culture at Hanford.

3. DOE's present understanding and response to Sub-recommendation 3.

DOE understands the distinction being made by the Board that there is a difference between judging the merits of a particular case between opposing parties still in dispute, and the effect that the perceptions of that controversy—regardless of the merits of the underlying case—may have on a community. We also agree with the Board that such perceptions can have a material effect on the safety culture at a site and in a community. In developing our Implementation Plan on Recommendation 2011-1, the DOE therefore will continue to work to establish a strong safety culture that takes the power of perceptions fully into account.

4. The independence, public stature, and leadership experience of the implementation team that will be called upon to provide safety culture insights and assessments to the Secretary and Senior DOE leadership.

We accept the implicit premise of the request, i.e., that the independence, stature, and leadership experience of the implementation team that will be called upon to provide safety culture insights and assessments to the Secretary and Senior DOE leadership is of crucial importance. In this regard, the review team members are selected based on their technical competence, objectivity, experience in safety management, executive leadership, and a clear understanding of corporate culture. DOE recognizes the heightened need to include “knowledgeable others” in the safety culture review process. The Department will therefore engage independent industry safety culture experts to evaluate the Implementation Plan (IP), and also to evaluate the quality of major IP deliverables.

Both DOE and Bechtel National Incorporated (BNI) will be performing safety culture reviews at WTP. The Department welcomes BNI's initiative in engaging qualified industry experts. DOE will monitor and cooperate with—but not partner in—the BNI review in order to gauge the validity of the BNI process. DOE will also examine the results of the review for relevant findings.

Of course, BNI's activities are not a substitute for DOE-directed reviews, which is why we are undertaking our own assessment concurrently. The HSS review will also help update our understanding of the current status of nuclear safety culture at WTP. The results of the HSS review will, of course, be shared with the Board upon its completion.

I hope this clarification is helpful. We are enthusiastic about our work toward the shared goal of safety excellence throughout the DOE complex. Given the importance of this issue, I hope you will continue to work closely with Deputy Secretary Poneman as we strengthen our efforts to promote a strong safety culture at WTP and across the DOE complex.

Sincerely,

Steven Chu

[FR Doc. 2011-25523 Filed 10-3-11; 8:45 am]

BILLING CODE 6450-01-P